DEPARTMENT OF EDUCATION

[Docket No.: ED-2023-SCC-0117]

Agency Information Collection Activities; Submission to the Office of Management and Budget for Review and Approval; Comment Request; Application for the International Research and Studies (IRS) Program (1894-0001)

AGENCY: Office of Postsecondary Education (OPE), Department of Education (ED).

ACTION: Notice.

SUMMARY: In accordance with the Paperwork Reduction Act (PRA) of 1995, the Department is proposing a revision of a currently approved information collection request (ICR).

DATES: Interested persons are invited to submit comments on or before August 7, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Cheryl Gibbs, 202-453-5690.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application for the International Research and Studies (IRS) Program (1894-0001).

OMB Control Number: 1840-0795.

Type of Review: A revision of a currently approved ICR.

Respondents/Affected Public: Private Sector.

Total Estimated Number of Annual Responses: 50.

Total Estimated Number of Annual Burden Hours: 3,333.

Abstract: This information collection (OMB 1840-0795) includes application instructions and forms for the International Research and Studies (IRS) Program (CFDA Number 84.017), authorized under title VI of the Higher Education Act of 1965, as amended (20 U.S.C. 1125). The program provides grants to institutions, public and private agencies, organizations, and individuals to conduct research and studies to improve and strengthen instruction in modern foreign languages, area studies, and other international fields.

The type of collection is a revision of the previously approved information collection (application). A revision of the application instructions and forms is necessary for IFLE to conduct the future competitions and complete the Department's required grant-making activities.

This collection is being submitted under the Streamlined Clearance Process for Discretionary Grant Information Collections (1894-0001). Therefore, the 30-day public comment period notice will be the only public comment notice published for this information collection.

Dated: June 29, 2023.
Kun Mullan,
PRA Coordinator, Strategic Collections and Clearance, Governance and Strategy Division, Office of Chief Data Officer, Office of Planning, Evaluation and Policy Development.

[FR Doc. 2023-14203 Filed 7-5-23; 8:45 am]

BILLING CODE 4000-01-P